DEPARTMENT OF THE INTERIOR

National Park Service

Notice of Inventory Completion: Southwest Museum of the American Indian at the Autry National Center of the American West, Los Angeles, CA

AGENCY: National Park Service, Interior.

ACTION: Notice.

Notice is here given in accordance with the Native American Graves Protection and Repatriation Act (NAGPRA), 25 U.S.C. 3003, of the completion of an inventory of human remains in the control of the Southwest Museum of the American Indian at the Autry National Center of the American West, Los Angeles, CA. The human remains were removed from Clark County, NV.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Southwest Museum of the American Indian at the Autry National Center of the American West professional staff in consultation with representatives of the Paiute-Shoshone Tribe of the Fallon Reservation and Colony, Nevada, representing the Great Basin Inter-Tribal NAGPRA Coalition, a non-Federally recognized Indian coalition, consisting of the Inter-Tribal Council of Nevada, a non-Federally recognized Indian group, and the following Federally-recognized Indian tribes: Battle Mountain Shoshone Tribe (Constituent band of the Te-Moak Tribe of Western Shoshone Indians of Nevada); Bridgeport Paiute Indian Colony of California; Duckwater Shoshone Tribe of the Duckwater Reservation, Nevada; Ely Shoshone Tribe of Nevada; Las Vegas Tribe of Paiute Indians of the Las Vegas Indian Colony, Nevada; Lovelock Paiute Tribe of the Lovelock Indian Colony, Nevada; Moapa Band of Paiutes of the Moapa River Indian Reservation, Nevada; Paiute-Shoshone Indians of the Bishop Community of the Bishop Colony, California; Paiute-Shoshone Tribe of the Fallon Reservation and Colony, Nevada; Reno-Sparks Indian Colony, Nevada; Shoshone-Paiute Tribes of the Duck Valley Reservation, Nevada; South Fork Band (Constituent band of the Te-Moak Tribe of Western Shoshone Indians of Nevada); Susanville Indian Rancheria, California; Te-Moak Tribe of Western Shoshone Indians of Nevada; Washoe Tribe of Nevada and California; and Yomba Shoshone Tribe of the Yomba Reservation, Nevada.

At an unknown time, human remains representing a minimum of one individual were removed from a cave near the Moapa reservation, in Clark County, NV. On May 23, 1939, Charles E. Cornelius donated the human remains to the Southwest Museum. No known individual was identified. No associated funerary objects are present.

The burial location in a cave suggests the human remains are Native American. Museum officials date the human remains from at least the 19th century. Literature infers that since the 19th century, Southern Paiute burial practices changed from cremation to burials in caves or crevasses as a result of colonization. Both current literature and consultation with the Great Basin Inter-Tribal NAGPRA Coalition indicate that Paiutes have used caves for burials. Museum officials reasonably believe that the proximity of the burial near the Moapa reservation indicates the human remains are culturally affiliated with the Moapa Band of Paiutes of the Moapa River Indian Reservation, Nevada. This band has continually inhabited the Moapa Valley since at least the 19th century. Pursuant to Resolution No. 7-001, the Moapa Band of Paiutes of the Moapa River Indian Reservation, Nevada is a member of the Great Basin Inter-Tribal NAGPRA Coalition and agrees to have the Paiute-Shoshone Tribe of the Fallon Reservation and Colony, Nevada represent their NAGPRA claims and repatriate these human remains on their behalf.

Officials of the Southwest Museum of the American Indian at the Autry National Center of the American West have determined that, pursuant to 25 U.S.C. 3001 (9-10), the human remains described above represent the physical remains of one individual of Native American ancestry. Officials of the Southwest Museum of the American Indian at the Autry National Center of the American West also have determined that, pursuant to 25 U.S.C. 3001 (2), there is a relationship of shared group identity that can be reasonably traced between the Native American human remains and the Moapa Band of Paiute Indians of the Moapa River Indian Reservation, Nevada.

Representatives of any other Indian tribe that believes itself to be culturally affiliated with the human remains should contact LaLeña Lewark, Senior NAGPRA Coordinator, Southwest Museum of the American Indian, Autry National Center of the American West, 4700 Western Heritage Way, Los Angeles, CA 90027, telephone (323) 667-2000, ext. 220, or Steven M. Karr, Ph.D., Ahmanson Curator of History and Culture and Interim Executive Director for the Southwest Museum of the American Indian, Autry National Center of the American West, 234 Museum Drive, Los Angeles, CA 90065, telephone (323) 221-2164 ext., ext. 234, before January 8, 2010. Repatriation of the human remains to the Paiute-Shoshone Tribe of the Fallon Reservation and Colony, Nevada, representing the Moapa Band of Paiutes of the Moapa River Indian Reservation, Nevada, and the Great Basin Inter-Tribal NAGPRA Coalition, a non-Federally recognized Indian coalition, may proceed after that date if no additional claimants come forward.

The Southwest Museum of the American Indian at the Autry National Center is responsible for notifying the Moapa Band of Paiutes of the Moapa River Indian Reservation, Nevada; Paiute-Shoshone Tribe of the Fallon Reservation and Colony, Nevada; and the Great Basin Inter-Tribal NAGPRA Coalition, a non-Federally recognized Indian coalition, that this notice has been published.

Dated: October 15, 2009.
Sherry Hutt,
Manager, National NAGPRA Program.

[FR Doc. E9-29297 Filed 12-8-09; 8:45 am]

BILLING CODE 4312-50-S